Title 3—

The President

Proclamation 7664 of April 15, 2003

National Fair Housing Month, 2003

By the President of the United States of America

A Proclamation

The Fair Housing Act was signed on April 11, 1968, just one week after the assassination of Dr. Martin Luther King, Jr. This landmark bill, Title VIII of the Civil Rights Act of 1968, resulted from the hard work and leadership of Dr. King and others in the civil rights movement and was an important step toward confronting discrimination against minorities in housing. As we celebrate the 35th anniversary of this historic legislation, we reaffirm our commitment to ensuring that all Americans have equal access to housing.

The Fair Housing Act of 1968 has helped open doors of opportunity for countless families. Since its passage, America has made significant progress in achieving equal housing access for all individuals.

Despite this progress, more work remains in our struggle to achieve equality and racial justice. Prejudice and discriminatory practices in housing still exist in America. A recent lending study showed that minorities continue to receive less information, less assistance, and less favorable terms and conditions than non-minorities while applying for home loans. These practices are wrong. As a Nation, and as individuals, we must be vigilant in responding to discrimination wherever we find it and ensuring that minority families have access to housing. With my minority homeownership initiative and its partnership with the private sector, I have set a goal to increase the number of minority homeowners by 5.5 million by 2010.

All Americans should know their housing rights, and the Department of Housing and Urban Development (HUD) is working to increase public awareness of fair housing laws, including those combating discrimination in mortgage lending. The 2004 budget request for HUD includes $50 million for fair housing—a 9 percent increase over 2003 funding—with a substantial portion specifically allocated for increased education and outreach efforts. The Department is also collaborating with the Federal Deposit Insurance Corporation on a financial education program in minority neighborhoods. In addition, the HUD, Education, and the Treasury Departments are advancing initiatives to educate families about homeownership through counseling programs and financial literacy efforts.

We are also vigilantly enforcing fair housing laws, showing no tolerance for those who discriminate. The Office of Fair Housing and Equal Opportunity at HUD is working with private industry and fair housing and community advocates to promote voluntary compliance and to ensure that consumers are treated in a lawful, respectful manner. When warranted, the Department of Justice takes legal action to protect our citizens from discrimination based on race, color, religion, sex, or national origin.

Finally, we are working to increase the supply of accessible housing for citizens with disabilities. HUD continues to aggressively enforce the law on behalf of people with disabilities, and the Department is working cooperatively with builders, architects, and others to provide technical assistance to help construct more handicapped-accessible housing.

Fair Housing Month provides an opportunity to place special emphasis on our goal to increase homeownership throughout our country. Together, we can advance toward a future where all our citizens have access to a key element of the American Dream—homeownership.

NOW, THEREFORE, I, GEORGE W. BUSH, President of the United States of America, by virtue of the authority vested in me by the Constitution and laws of the United States, do hereby proclaim April 2003 as National Fair Housing Month. I call upon the people of the United States to learn more about their rights and responsibilities under the Fair Housing Act and the roles they can individually and collectively play to combat housing discrimination.

IN WITNESS WHEREOF, I have hereunto set my hand this fifteenth day of April, in the year of our Lord two thousand three, and of the Independence of the United States of America the two hundred and twenty-seventh.

B

[FR Doc. 03-9822

Filed 4-17-03; 8:45 am]

Billing code 3195-01-P